FEDERAL ELECTION COMMISSION

Sunshine Act Meeting Notice

AGENCY: Federal Election Commission.

DATE AND TIME: Tuesday, November 4, 2003, at 10 a.m.

PLACE: 999 E Street, NW., Washington, DC.

Status: This meeting will be closed to the public.

ITEMS TO BE DISCUSSED: Compliance matters pursuant to 2 U.S.C. 437g. Audits conducted pursuant to 2 U.S.C. 437g, 438(b), and title 26, U.S.C. Matters concerning participation in civil actions or proceedings or arbitration. Internal personnel rules and procedures or matters affecting a particular employee.

DATE AND TIME: Thursday, November 6, 2003, at 10 a.m.

PLACE: N999 E Street, NW., Washington, DC (ninth floor).

STATUS: This meeting will be open to the public.

ITEMS TO BE DISCUSSED: Correction and Approval of Minutes. Revised Draft Advisory Opinion 2003-23: Women Engaged in Leadership, Education, and Action in Democracy (“WE LEAD”) by counsel, Joseph E. Sandler and Neil P. Reiff. Draft Advisory Opinion 2003-26: Voinovich for Senate Committee by William L. Curlis, Treasurer. Draft Advisory Opinion 2003-27: Missouri Green Party, Inc., by Timothy V. Barnhart, Treasurer, Notice of Disposition on Mailing Lists of Political Committees. Final Rules and Explanation and Justification on Party Committee Telephone Banks. Final Rules and Explanation and Justification on Candidate Travel. Final Rules and Explanation and Justification on Multicandidate Political Committees and Biennial Contribution Limits. Routine Administrative Matters.

PERSON TO CONTACT FOR INFORMATION: Mr. Ron Harris, Press Officer, Telephone: (202) 694-1220.

Mary W. Dove,
Secretary of the Commission.

[FR Doc. 03-27472 Filed 10-28-03; 11:57 am]

BILLING CODE 6715-01-M